DEPARTMENT OF HOMELAND SECURITY

Federal Emergency Management Agency

[Docket ID: FEMA-2024-0009; OMB No. 1660-0047]

Agency Information Collection Activities: Proposed Collection, Comment Request; Request for Federal Assistance—How To Process Mission Assignments in Federal Disaster Operations

AGENCY: Federal Emergency Management Agency, Department of Homeland Security.

ACTION: 60-Day notice of revision and request for comments.

SUMMARY: The Federal Emergency Management Agency (FEMA), as part of its continuing effort to reduce paperwork and respondent burden, invites the general public to take this opportunity to comment on a revision of a currently approved information collection. In accordance with the requirements of the Paperwork Reduction Act of 1995, this notice seeks comments concerning the collection of information necessary to allow FEMA to support the needs of States, federally-recognized Tribes, and Territories during disaster situations through the use of other Federal Agency resources.

DATES: Comments must be submitted on or before April 29, 2024.

ADDRESSES: To avoid duplicate submissions to the docket, please submit comments at www.regulations.gov under Docket ID FEMA-2024-0009. Follow the instructions for submitting comments.

All submissions received must include the agency name and Docket ID. Regardless of the method used to submitting comments or material, all submissions will be posted, without change, to the Federal eRulemaking Portal at http://www.regulations.gov, and will include any personal information you provide. Therefore, submitting this information makes it public. You may wisht to read the Privacy and Security Notice that is available via a link on the homepage of www.regulations.gov.

FOR FURTHER INFORMATION CONTACT: Courtney Keller, Emergency Management Specialist, Mission Assignment Program, by telephone at (202) 441-3642 or by email at FEMA-MissionAssignments@fema.dhs.gov. You may contact the Information Management Division for copies of the proposed collection of information at email address: FEMA-Information-Collections-Management@fema.dhs.gov.

SUPPLEMENTARY INFORMATION: According to the Robert T. Stafford Disaster Relief and Emergency Assistance Act (Stafford Act), 42 U.S.C. 5121, et seq., FEMA is authorized to provide assistance before, during, and after a disaster has impacted a State, Tribe, or Territory (STT). For a major disaster, the Stafford Act authorizes FEMA to direct any agency to utilize its existing authorities and resources in support of STT assistance response and recovery efforts. See 42 U.S.C. 5170(a)(1). For an emergency, the Stafford Act authorizes FEMA to direct any agency to utilize its existing authorities and resources in support of STT emergency efforts. See 42 U.S.C. 5192(a)(1). FEMA may task other Federal agencies to assist during disasters and to support emergency efforts by STT governments by issuing a mission assignment to the appropriate agency. See 44 CFR 206.5, 206.208. FEMA collects the information necessary to determine what resources are needed and if a mission assignment is appropriate. The information collected explains which STT requires assistance, what needs to be accomplished, details any resource shortfalls, and explains what assistance is required to meet these needs.

Collection of Information

Title: Request for Federal Assistance—How to Process Mission Assignments in Federal Disaster Operations.

Type of Information Collection: Revision of a currently approved collection.

OMB Number: 1660-0047.

FEMA Forms: FEMA Form FF-104-FY-21-119 (formerly 010-0-8), Mission Assignment Form; FEMA Form FF-104-FY-21-120 (formerly 010-0-7), Resource Request Form; FEMA Form FF-104-FY-21-121 (formerly 010-0-8A), Mission Assignment Task Order Form.

Abstract: A written request for Federal assistance may be submitted on an Resource Request Form (RRF). The RRF is a working document requesting Federal assistance and may be sourced as a Mission Assignment. The Mission Assignment (MA) form is used to record a request for Federal assistance by States/Tribes/Territories to FEMA, and is the official FEMA obligating document that tasks another Federal agency to perform work.

Affected Public: State, local, or Tribal governments.

Estimated Number of Respondents: 84.

Estimated Number of Responses: 4,200.

Estimated Total Annual Burden Hours: 1,367.

Estimated Total Annual Respondent Cost: $175,701.

Estimated Respondents' Operation and Maintenance Costs: $41,130.

Estimated Respondents' Capital and Start-Up Costs: $0.

Estimated Total Annual Cost to the Federal Government: $77,090.

Comments

Comments may be submitted as indicated in the ADDRESSES caption above. Comments are solicited to (a) evaluate whether the proposed data collection is necessary for the proper performance of the Agency, including whether the information shall have practical utility; (b) evaluate the accuracy of the Agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2024-04119 Filed 2-27-24; 8:45 am]

BILLING CODE 9111-24-P